DEPARTMENT OF HEALTH AND HUMAN SERVICES

Administration for Children and Families

Proposed Information Collection Activity; Comment Request

Proposed Projects

Title: Application for the Emergency Form for CSBG/ARRA Expenditure Report.

OMB No.: New Collection.

Description: On February 17, 2009, President Obama signed into law the American Recovery and Reinvestment Act of 2009 (Recovery Act). The Recovery Act provided for $1 billion in additional funds to the Community Services Block Grant (CSBG) program for Federal Fiscal Year 2009; however, the grant period runs through FY 2010. As with regularly appropriated CSBG funds, Recovery Act funds may be used for the reduction of poverty, the revitalization of low-income communities, and the empowerment of low-income families and individuals in rural and urban areas to become fully self-sufficient.

To be in compliance with Recovery Act (Pub. L. 111-5) section 1512(c)(1) through (B), a backup sheet was created to identify the various activities that make up the total Federal share of outlays reported on the 269A Report line 10(a). The CSBG/ARRA Fund provides resources to States, Territories, and Tribes to support work and families during this difficult economic period. We plan to issue a backup sheet for the 269A Report with instructions for jurisdictions to complete, which would provide detailed information to support line 10(a) of the aforementioned document.

Failure to collect this data would compromise ACF's ability to monitor expenditure patterns by the grantees.

Documentation maintenance on financial reporting for the CSBG Fund is governed by 45 CFR 96.30.

Respondents: State, Territory, and Tribal agencies administering the Community Service Block Grant (CSBG) Program Fund.

Annual Burden Estimates
Instrument | Number of respondents | Number of responses per respondent | Average burden hours per response | Total burden hours
CSBG/ARRA Plan | 103 | 4 | 4 | 1,648

Estimated Total Annual Burden Hours: 1,648

In compliance with the requirements of section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: July 20, 2009.
Janean Chambers,
Reports Clearance Officer.

[FR Doc. E9-17561 Filed 7-23-09; 8:45 am]

BILLING CODE 4184-01-P